ENVIRONMENTAL PROTECTION AGENCY

[FRL-9942-35-OECA]

National Environmental Justice Advisory Council: Notification of Public Meeting and Public Comment

AGENCY: Environmental Protection Agency (EPA).

ACTION: Notification of public meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering to attend the meeting or to provide public comment, please see “Registration” under SUPPLEMENTARY INFORMATION. Due to a limited space, seating at the NEJAC meeting will be on a first-come, first served basis. Pre-registration is required.

DATES: The NEJAC will convene Wednesday, March 16, 2016 and Thursday, March 17, 2016, from 8:00 a.m. until 5:00 p.m. Central Time each day. The discussion will focus on several topics including, but not limited to, an update on recovery efforts; resources and technical assistance available to communities with environmental justice concerns; and climate change concerns of coastal communities.

One public comment period relevant to the specific issues being considered by the NEJAC (see SUPPLEMENTARY INFORMATION) is scheduled for Wednesday, March 16, 2016, starting at 6:00 p.m. Central Time. Members of the public who wish to participate during the public comment period are highly encouraged to pre-register by Midnight, Central Time, on Monday, March 7, 2016.

ADDRESSES: The NEJAC meeting will be held at the Courtyard Gulfport Beachfront located at 1600 E Beach Blvd., Gulfport, MS 39501.

FOR FURTHER INFORMATION CONTACT: Questions or correspondence concerning the teleconference meeting should be directed to Karen L. Martin, U.S. Environmental Protection Agency, by mail at 1200 Pennsylvania Avenue NW. (MC2201A), Washington, DC 20460; by telephone at 202-564-0203; via email at martin.karenl@epa.gov; or by fax at 202-564-1624. Additional information about the NEJAC is available at: www.epa.gov/environmentaljustice/nejac.

SUPPLEMENTARY INFORMATION: The Charter of the NEJAC states that the advisory committee “will provide independent advice and recommendations to the Administrator about broad, crosscutting issues related to environmental justice. The NEJAC's efforts will include evaluation of a broad range of strategic, scientific, technological, regulatory, community engagement and economic issues related to environmental justice.”

Registration

Registrations for the March 16-17, 2016, pubic meeting will be processed http://nejac-public-meeting-march-16th-17th-2016.eventbrite.com. Pre-registration is required. Registration for the March 16-17, 2016, teleconference meeting closes at Midnight, Central Time on Friday, March 11, 2016. The deadline to sign up to speak during the public comment period, or to submit written public comments, is Midnight, Central Time Monday, March 7, 2016. When registering, please provide your name, organization, city and state, email address, and telephone number for follow up. Please also state whether you would like to be put on the list to provide public comment, and whether you are submitting written comments before the Monday, March 7, 2016, Midnight deadline. Due to a limited number of telephone lines, attendance will be on a first-come, first served basis.

A. Public Comment

Individuals or groups making remarks during the public comment period will be limited to seven (7) minutes. To accommodate the number of people who want to address the NEJAC, only one representative of a particular community, organization, or group will be allowed to speak. Written comments can also be submitted for the record. The suggested format for individuals providing public comments is as follows: Name of speaker; name of organization/community; city and state; and email address; brief description of the concern, and what you want the NEJAC to advise EPA to do. Written comments received by registration deadline, will be included in the materials distributed to the NEJAC prior to the teleconference. Written comments received after that time will be provided to the NEJAC as time allows. All written comments should be sent to Karen L. Martin, EPA, via email at martin.karenl@epa.gov.

B. Information About Services for Individuals With Disabilities or Requiring English Language Translation Assistance

For information about access or services for individuals requiring assistance, please contact Karen L. Martin, at (202) 564-0203 or via email at martin.karenl@epa.gov. To request special accommodations for a disability or other assistance, please submit your request at least four working days prior to the meeting, to give EPA sufficient time to process your request. All requests should be sent to the address, email, or phone/fax number listed in the FOR FURTHER INFORMATION CONTACT section.

Dated: February 3, 2016.
Matthew Tejada,
Designated Federal Officer, National Environmental Justice Advisory Council.

[FR Doc. 2016-03115 Filed 2-12-16; 8:45 am]

BILLING CODE 6560-50-P